OFFICE OF MANAGEMENT AND BUDGET

Rescissions Proposals Pursuant to the Congressional Budget and Impoundment Control Act of 1974

AGENCY: Executive Office of the President, Office of Management and Budget.

ACTION: Notice of rescissions proposed pursuant to the Congressional Budget and Impoundment Control Act of 1974.

SUMMARY: Pursuant to section 1014(d) of the Congressional Budget and Impoundment Control Act of 1974, enclosed for publication in the Federal Register is a special message from the President reflecting the proposals for rescission under section 1012 of that Act that were transmitted to the Congress for consideration on August 28, 2025. In total, these proposals would rescind $4.9 billion in budget authority. These proposed rescissions affect programs of the Department of State as well as the U.S. Agency for International Development and International Assistance Programs. If enacted, these rescissions would decrease Federal outlays in the affected accounts by the same amount. This would have a commensurate effect on the Federal budget deficit and the national economy, and would result in less borrowing from the Federal Treasury.

DATES: Release Date: August 28, 2025.

ADDRESSES: The rescissions proposal package is available on-line on the OMB home page at: https://www.whitehouse.gov/omb/information-resources/legislative/supplementals-amendments-and-releases/.

FOR FURTHER INFORMATION CONTACT: Jason Hoffman, 252 Eisenhower Executive Office Building, Washington, DC 20503, Email address: Jason.M.Hoffman@omb.eop.gov, telephone number: (202) 456-1414. Because of delays in the receipt of regular mail related to security screening, respondents are encouraged to use electronic communications.

Russell T. Vought,
Director.

TO THE CONGRESS OF THE UNITED STATES:

In accordance with section 1012(a) of the Congressional Budget and Impoundment Control Act of 1974 (2 U.S.C. 683(a)), I herewith report 15 rescissions of budget authority, totaling $4.9 billion.

The proposed rescissions affect programs of the Department of State as well as the U.S. Agency for International Development and International Assistance Programs.

The details of these rescissions are set forth in the attached enclosure.

THE WHITE HOUSE,

August 28, 2025.

Rescission proposal no. R25-23

PROPOSED RESCISSION OF BUDGET AUTHORITY

Report Pursuant to Section 1012 of the Congressional Budget and Impoundment Control Act of 1974 (2 U.S.C. 683)

Agency: Department of State

Bureau: International Organizations and Conferences

Account: Contributions to International Organizations (019-1126 2025/2025)

Amount proposed for rescission: $520,500,000

Justification:

This proposal would rescind $521 million of the $1.5 billion appropriated in FY 2025 for the Contributions to International Organizations (CIO) account. The CIO account provides funding for the assessed contributions to the United Nations (UN), UN-Affiliated organizations, and various other international organizations that do not support major U.S. policies or priorities or have been operating contrary to American interests for many years. For example, the Pan American Health Organization, which receives CIO funding, is the regional arm of the World Health Organization, and was accused of forced labor and human trafficking of Cuban doctors. Further, the Organization for Economic Cooperation and Development (OECD), also a recipient of CIO funding, facilitated a global tax deal, committing America to extraterritorial jurisdiction of American-made income.

This proposal is consistent with Executive Order 14199, “Withdrawing the United States from and Ending Funding to Certain United Nations Organizations and Reviewing United States Support to All International Organizations.” The rescission would eliminate funding for the UN regular budget, and other organizations such the United Nations Educational, Scientific, and Cultural Organization.

Other examples of activities funded by this account include:

• $2.3 million for desert locust risk reduction in the Central Region and Horn of Africa.

• $1.5 million for marketing paintings of Ukrainian women artists and a museum dedicated to recognizing the historical role of Ukrainian female artists.

Rescission proposal no. R25-24

PROPOSED RESCISSION OF BUDGET AUTHORITY

Report Pursuant to Section 1012 of the Congressional Budget and Impoundment Control Act of 1974 (2 U.S.C. 683)

Agency: Department of State

Bureau: International Organizations and Conferences

Account: Contributions for International Peacekeeping Activities (019-1124 2025/2025)

Amount proposed for rescission: $392,534,000

Justification:

This proposal would rescind $393 million of the $1.2 billion appropriated in FY 2025 for the Contributions for International Peacekeeping Activities (CIPA) account, which was defunded in the President's FY 2026 Budget. The CIPA account provides payments for the U.S. share of United Nations (UN) peacekeeping assessments. UN peacekeeping has been fraught with waste and abuse, as evidenced by the ongoing sexual exploitation and abuse (SEA) in the Democratic Republic of the Congo and the Central African Republic. There have been thousands of credible allegations of sexual abuse and other crimes against UN peacekeepers from across the world, including when UN personnel who solicited underage girls in Kosovo that resulted in them being kidnapped, tortured, and prostituted. The UN has failed to address this issue by punishing the perpetrators of these heinous crimes. UN Peacekeepers were also the source of the cholera outbreak in Haiti after the 2010 earthquake, costing billions and causing lasting harm. Reports have also estimated that billions in peacekeeping contracts (over 40 percent) were implicated in significant corruption schemes. The rescission would be a first step to engaging in strong reforms across the UN.

Other examples of activities funded by this account include:

• In 2023, 43 people were killed during demonstrations against the Democratic Republic of the Congo Mission (MONUSCO) and DRC presidential candidates have threatened to remove the UN peacekeeping mission from the DRC.

• The Mali mission (MINUSMA's) failure to retain host country consent and protect civilians is another stain on the UN's tattered history of peacekeeping.

Rescission proposal no. R25-25

PROPOSED RESCISSION OF BUDGET AUTHORITY

Report Pursuant to Section 1012 of the Congressional Budget and Impoundment Control Act of 1974 (2 U.S.C. 683)

Agency: Department of State

Bureau: Other

Account: Democracy Fund (019-1121 2020/2025)

Amount proposed for rescission: $1,800,498

Justification:

This proposal would rescind $2 million of the $274 million appropriated in FY 2020 for the Democracy Fund (DF). The DF account is intended to fund democracy promotion activities of the Department of State and U.S. Agency for International Development. In practice, DF activities undermine American values, weaken the perception of America abroad, interfere with the sovereignty of other countries—including U.S. allies, and bankroll corrupt leaders. For example, this account funded gender responsive governance and activities geared toward strengthening information integrity, equality, and democracy for LGBTQI+ populations. The rescission would return funding from wasteful foreign assistance programs to taxpayers in alignment with America First foreign policy.

Other examples of activities funded by this account include:

• $2.7 million to advance “inclusive democracy” in South Africa through the Democracy Works Foundation, which has published articles such as “The Problem with Whiteness,” and “The Problem with White People.” One article claims that White South Africans are “not even aware” of the “hostility they unleash” against black people; another lauds terrorism and communism as an effective means of deconstructing White Afrikaner identity.

• $4 million for the “New Alliance for Global Equality” to advance “global LGBTQI+ awareness.”

• $500,000 to support women in elections in the Maldives.

Rescission proposal no. R25-26

PROPOSED RESCISSION OF BUDGET AUTHORITY

Report Pursuant to Section 1012 of the Congressional Budget and Impoundment Control Act of 1974 (2 U.S.C. 683)

Agency: Department of State

Bureau: Other

Account: Democracy Fund (072-019-1121 2020/2025)

Amount proposed for rescission: $56,107

Justification:

This proposal would rescind $56,107 of the $274 million appropriated in FY 2020 for the Democracy Fund (DF). The DF account is intended to fund democracy promotion activities of the Department of State and U.S. Agency for International Development. In practice, DF-funded activities weaponized programs that undermine American values, weaken perception of America abroad, interfere with the sovereignty of other countries, including U.S. allies, and bankroll the evasion by corrupt leaders of their responsibilities to their citizens. For example, this account funded gender responsive governance and activities geared toward strengthening information integrity, equality, and democracy for LGBTQI+ populations. The rescission would return funding from wasteful foreign assistance programs to taxpayers in alignment with America First foreign policy.

Other examples of activities funded by this account include:

• $2.7 million to advance “inclusive democracy” in South Africa through the Democracy Works Foundation, which has published articles such as “The Problem with Whiteness,” and “The Problem with White People.” One article claims that White South Africans are “not even aware” of the “hostility they unleash” against black people; another lauds terrorism and communism as an effective means of deconstructing White Afrikaner identity.

• $4 million for the “New Alliance for Global Equality” to advance “global LGBTQI+ awareness.”

• $500,000 to support women in elections in the Maldives.

Rescission proposal no. R25-27

PROPOSED RESCISSION OF BUDGET AUTHORITY

Report Pursuant to Section 1012 of the Congressional Budget and Impoundment Control Act of 1974 (2 U.S.C. 683)

Agency: Department of State

Bureau: Other

Account: Democracy Fund (019-1121 2024/2025)

Amount proposed for rescission: $188,314,470

Justification:

This proposal would rescind $188 million of the $340 million appropriated in FY 2024 for the Democracy Fund (DF). The DF account is intended to fund democracy promotion activities of the Department of State and U.S. Agency for International Development. In practice, DF-funded activities weaponized programs that undermine American values, weaken perception of America abroad, interfere with the sovereignty of other countries, including U.S. allies, and bankroll the evasion by corrupt leaders of their responsibilities to their citizens. For example, this account funded gender responsive governance and activities geared toward strengthening information integrity, equality, and democracy for LGBTQI+ populations. The rescission would return funding from wasteful foreign assistance programs to taxpayers in alignment with America First foreign policy.

Other examples of activities funded by this account include:

• $2.7 million to advance “inclusive democracy” in South Africa through the Democracy Works Foundation, which has published articles such as “The Problem with Whiteness,” and “The Problem with White People.” One article claims that White South Africans are “not even aware” of the “hostility they unleash” against black people; another lauds terrorism and communism as an effective means of deconstructing White Afrikaner identity.

• $4 million for the “New Alliance for Global Equality” to advance “global LGBTQI+ awareness.”

• $500,000 to support women in elections in the Maldives.

Rescission proposal no. R25-28

PROPOSED RESCISSION OF BUDGET AUTHORITY

Report Pursuant to Section 1012 of the Congressional Budget and Impoundment Control Act of 1974 (2 U.S.C. 683)

Agency: Department of State

Bureau: Other

Account: Democracy Fund (072-019-1121 2024/2025)

Amount proposed for rescission: $132,117,226

Justification:

This proposal would rescind $132 million of the $340 million appropriated in FY 2024 for the Democracy Fund (DF). The DF account is intended to fund democracy promotion activities of the Department of State and U.S. Agency for International Development. In practice, DF-funded activities weaponized programs that undermine American values, weaken perception of America abroad, interfere with the sovereignty of other countries, including U.S. allies, and bankroll the evasion by corrupt leaders of their responsibilities to their citizens. For example, this account funded gender responsive governance and activities geared toward strengthening information integrity, equality, and democracy for LGBTQI+ populations. The rescission would return funding from wasteful foreign assistance programs to taxpayers in alignment with America First foreign policy.

Other examples of activities funded by this account include:

• $2.7 million to advance “inclusive democracy” in South Africa through the Democracy Works Foundation, which has published articles such as “The Problem with Whiteness,” and “The Problem with White People.” One article claims that White South Africans are “not even aware” of the “hostility they unleash” against black people; another lauds terrorism and communism as an effective means of deconstructing White Afrikaner identity.

• $4 million for the “New Alliance for Global Equality” to advance “global LGBTQI+ awareness.”

• $500,000 to support women in elections in the Maldives.

Rescission proposal no. R25-29

PROPOSED RESCISSION OF BUDGET AUTHORITY

Report Pursuant to Section 1012 of the Congressional Budget and Impoundment Control Act of 1974 (2 U.S.C. 683)

Agency: International Assistance Programs

Bureau: International Security Assistance

Account: Peacekeeping Operations (019-011-1032 2024/2025)

Amount proposed for rescission: $110,384,428

Justification:

This proposal would rescind $110 million of the $410 million appropriated in FY 2024 for the Peacekeeping Operations (PKO) account, which was largely defunded in the President's FY 2026 Budget. The PKO account is intended to support peacekeeping and stabilization operations and to counter extremist threats, including for the United Nations (UN) Support Office in Somalia peacekeeping mission. In practice, this account is a slush fund used to support projects well beyond a core security focus, including hybrid energy power generation pilot projects in Nepal and South Sudan, at the expense of American taxpayers.

Annually, $71 million of PKO's funds have been allocated to the Global Peace Operations Initiative (GPOI) to ready other country's militaries to support UN peacekeeping. Not only are we overpaying in U.S. assessed contributions, we are paying twice to pick up global slack. Programs undergoing termination include:

• Nearly $11 million for armored personnel carriers for Uruguay's quick reaction force.

• Nearly $4 million for infrastructure and facilities at the Zambia Training Center.

• Nearly $3 million for barracks for Kazakhstan peacekeepers.

• Over $500,000 for a women's body armor pilot program.

The rescission would eliminate programs but will not impact the United States' commitment to the Egyptian-Israeli Treaty of Peace through U.S. contributions to the Multinational Force and Observers.

Rescission proposal no. R25-30

PROPOSED RESCISSION OF BUDGET AUTHORITY

Report Pursuant to Section 1012 of the Congressional Budget and Impoundment Control Act of 1974 (2 U.S.C. 683)

Agency: International Assistance Programs

Bureau: International Security Assistance

Account: Peacekeeping Operations (019-011-1032 2025/2025)

Amount proposed for rescission: $326,214,947

Justification:

This proposal would rescind $326 million of the $410 million appropriated in FY 2025 for the Peacekeeping Operations (PKO) account, which was largely defunded in the President's FY 2026 Budget. The PKO account is intended to support peacekeeping and stabilization operations and to counter extremist threats, including for the United Nations (UN) Support Office in Somalia peacekeeping mission. In practice, this account is a slush fund used to support projects well beyond a core security focus, including hybrid energy power generation pilot projects in Nepal and South Sudan, at the expense of American taxpayers.

Annually, $71 million of PKO's funds have been allocated to the Global Peace Operations Initiative (GPOI) to ready other country's militaries to support UN peacekeeping. Not only are we overpaying in U.S. assessed contributions, we are paying twice to pick up global slack. Programs undergoing termination include:

• Nearly $11 million for armored personnel carriers for Uruguay's quick reaction force.

• Nearly $4 million for infrastructure and facilities at the Zambia Training Center.

• Nearly $3 million for barracks for Kazakhstan peacekeepers.

• Over $500,000 for a women's body armor pilot program.

The rescission would eliminate programs but will not impact the United States' commitment to the Egyptian-Israeli Treaty of Peace through U.S. contributions to the Multinational Force and Observers.

Rescission proposal no. R25-31

PROPOSED RESCISSION OF BUDGET AUTHORITY

Report Pursuant to Section 1012 of the Congressional Budget and Impoundment Control Act of 1974 (2 U.S.C. 683)

Agency: International Assistance Programs

Bureau: International Security Assistance

Account: Peacekeeping Operations (011-1032 2024/2025)

Amount proposed for rescission: $2,500,000

Justification:

This proposal would rescind $3 million of the $410 million appropriated in FY 2024 for the Peacekeeping Operations (PKO) account, which was largely defunded in the President's FY 2026 Budget. The PKO account is intended to support peacekeeping and stabilization operations and to counter extremist threats, including for the United Nations (UN) Support Office in Somalia peacekeeping mission. In practice, this account is a slush fund used to support projects well beyond a core security focus, including hybrid energy power generation pilot projects in Nepal and South Sudan, at the expense of American taxpayers.

Annually, $71 million of PKO's funds have been allocated to the Global Peace Operations Initiative (GPOI) to ready other country's militaries to support UN peacekeeping. Not only are we overpaying in U.S. assessed contributions, we are paying twice to pick up global slack. Programs undergoing termination include:

• Nearly $11 million for armored personnel carriers for Uruguay's quick reaction force.

• Nearly $4 million for infrastructure and facilities at the Zambia Training Center.

• Nearly $3 million for barracks for Kazakhstan peacekeepers.

• Over $500,000 for a women's body armor pilot program.

The rescission would eliminate programs but will not impact the United States' commitment to the Egyptian-Israeli Treaty of Peace through U.S. contributions to the Multinational Force and Observers.

Rescission proposal no. R25-32

PROPOSED RESCISSION OF BUDGET AUTHORITY

Report Pursuant to Section 1012 of the Congressional Budget and Impoundment Control Act of 1974 (2 U.S.C. 683)

Agency: International Assistance Programs

Bureau: International Security Assistance

Account: Peacekeeping Operations (019-011-1032 2020/2025)

Amount proposed for rescission: $5,850,726

Justification:

This proposal would rescind $6 million of the $410 million appropriated in FY 2024 for the Peacekeeping Operations (PKO) account, which was largely defunded in the President's FY 2026 Budget. The PKO account is intended to support peacekeeping and stabilization operations and to counter extremist threats, including for the United Nations (UN) Support Office in Somalia peacekeeping mission. In practice, this account is a slush fund used to support projects well beyond a core security focus, including hybrid energy power generation pilot projects in Nepal and South Sudan, at the expense of American taxpayers.

Annually, $71 million of PKO's funds have been allocated to the Global Peace Operations Initiative (GPOI) to ready other country's militaries to support UN peacekeeping. Not only are we overpaying in U.S. assessed contributions, we are paying twice to pick up global slack. Programs undergoing termination include:

• Nearly $11 million for armored personnel carriers for Uruguay's quick reaction force.

• Nearly $4 million for infrastructure and facilities at the Zambia Training Center.

• Nearly $3 million for barracks for Kazakhstan peacekeepers.

• Over $500,000 for a women's body armor pilot program.

The rescission would eliminate programs but will not impact the United States' commitment to the Egyptian-Israeli Treaty of Peace through U.S. contributions to the Multinational Force and Observers.

Rescission proposal no. R25-33

PROPOSED RESCISSION OF BUDGET AUTHORITY

Report Pursuant to Section 1012 of the Congressional Budget and Impoundment Control Act of 1974 (2 U.S.C. 683)

Agency: International Assistance Programs

Bureau: Agency for International Development

Account: Development Assistance (072-1021 2017/2025)

Amount proposed for rescission: $3,360

Justification:

This proposal would rescind $3,360 of the $3 billion appropriated in FY 2017 for Development Assistance (DA). The DA account is intended to fund programs that work to promote resilient societies, but in practice has done the opposite. Many DA programs conflicted with American values, interfered with the sovereignty of other countries, and bankrolled corrupt leaders' evasion of their responsibilities to their citizens, all while providing no clear benefit to Americans. Projects like electric busses in Rwanda, are of negative value to American taxpayers and American foreign policy interests. The rescission would align with the Administration's efforts to return funding from wasteful U.S. Agency for International Development programs to the American taxpayers. The remaining balance proposed for rescission are for activities that have completed their goals and are no longer needed for their intended purpose.

Other examples of activities funded by this account include:

• $24.6 million to build climate resilience in Honduras.

• $38.6 million for biodiversity and low-emissions development in West Africa.

• $13.4 million for civic engagement in Zimbabwe.

Rescission proposal no. R25-34

PROPOSED RESCISSION OF BUDGET AUTHORITY

Report Pursuant to Section 1012 of the Congressional Budget and Impoundment Control Act of 1974 (2 U.S.C. 683)

Agency: International Assistance Programs

Bureau: Agency for International Development

Account: Development Assistance (072-1021 2020/2025)

Amount proposed for rescission: $7,088,936

Justification:

This proposal would rescind $7 million of the $3.4 billion appropriated in FY 2020 for Development Assistance (DA). The DA account is intended to fund programs that work to promote resilient societies, but in practice has done the opposite. Many DA programs conflicted with American values, interfered with the sovereignty of other countries, and bankrolled corrupt leaders' evasion of their responsibilities to their citizens, all while providing no clear benefit to Americans. Projects like electric busses in Rwanda are of negative value to American taxpayers and American foreign policy interests. The rescission would align with the Administration's efforts to return funding from wasteful U.S. Agency for International Development programs to the American taxpayers.

Other examples of activities funded by this account include:

• $2 million for “green economic opportunities” in Honduras.

• $5 million for localization, inclusion, and sustainability in Kenya.

Rescission proposal no. R25-35

PROPOSED RESCISSION OF BUDGET AUTHORITY

Report Pursuant to Section 1012 of the Congressional Budget and Impoundment Control Act of 1974 (2 U.S.C. 683)

Agency: International Assistance Programs

Bureau: Agency for International Development

Account: Development Assistance (072-1021 2021/2025)

Amount proposed for rescission: $31,649,095

Justification:

This proposal would rescind $32 million of the $3.5 billion appropriated in FY 2021 for Development Assistance (DA). The DA account is intended to fund programs that work to promote resilient societies, but in practice has done the opposite. Many DA programs conflicted with American values, interfered with the sovereignty of other countries, and bankrolled corrupt leaders' evasion of their responsibilities to their citizens, all while providing no clear benefit to Americans. Projects like baking and beauty therapy in Zimbabwe and land administration in Malawi, are of negative value to American taxpayers and American foreign policy interests. The rescission would align with the Administration's efforts to return funding from wasteful U.S. Agency for International Development programs to the American taxpayers.

Other examples of activities funded by this account include:

• $550,000 for holistic monitoring, evaluation, and learning in North Macedonia.

• $60,000 for listening tours on local development in Timor-Leste.

• $12,000 for Telling the USAID story in Bosnia and Herzegovina.

Rescission proposal no. R25-36

PROPOSED RESCISSION OF BUDGET AUTHORITY

Report Pursuant to Section 1012 of the Congressional Budget and Impoundment Control Act of 1974 (2 U.S.C. 683)

Agency: International Assistance Programs

Bureau: Agency for International Development

Account: Development Assistance (072-1021 2023/2025)

Amount proposed for rescission: $6,587,000

Justification:

This proposal would rescind $7 million of the $4.4 billion appropriated in FY 2023 for Development Assistance (DA). The DA account is intended to fund programs that work to promote resilient societies, but in practice has done the opposite. Many DA programs conflicted with American values, interfered with the sovereignty of other countries, and bankrolled corrupt leaders' evasion of their responsibilities to their citizens, all while providing no clear benefit to Americans. Projects like, electric busses in Rwanda, are of negative value to American taxpayers and American foreign policy interests. The rescission would align with the Administration's efforts to return funding from wasteful U.S. Agency for International Development programs to the American taxpayers. The remaining balance for rescission is part of a “Flexible Fund” to support private sector partnerships overseas created under the Biden Administration.

Other examples of activities funded by this account include:

• A partnership with the Green Climate Fund, for the Barbados Blue-Green Bank for climate change mitigation.

• Supporting ecotourism in Peru.

• $650,000 for micro-insurance for smallholder farmers and microbusinesses in Colombia for climate disaster response.

Rescission proposal no. R25-37

PROPOSED RESCISSION OF BUDGET AUTHORITY

Report Pursuant to Section 1012 of the Congressional Budget and Impoundment Control Act of 1974 (2 U.S.C. 683)

Agency: International Assistance Programs

Bureau: Agency for International Development

Account: Development Assistance (072-1021 2024/2025)

Amount proposed for rescission: $3,180,239,598

Justification:

This proposal would rescind $3.2 billion of the $3.9 billion appropriated in FY 2024 for Development Assistance (DA). The DA account is intended to fund programs that work to promote resilient societies, but in practice has done the opposite. Many DA programs conflicted with American values, interfered with the sovereignty of other countries, and bankrolled corrupt leaders' evasion of their responsibilities to their citizens, all while providing no clear benefit to Americans. The rescission would align with the Administration's efforts to return funding from wasteful U.S. Agency for International Development programs to the American taxpayers.

Other examples include:

• $24.6 million to build climate resilience in Honduras.

• $38.6 million for biodiversity and low-emissions development in West Africa.

• $13.4 million for civic engagement in Zimbabwe.

[FR Doc. 2025-16851 Filed 9-2-25; 8:45 am]

BILLING CODE 3110-01-P